DEPARTMENT OF THE INTERIOR

Bureau of Reclamation

Reach 4B, Eastside Bypass and Mariposa Bypass Low Flow Channel and Structural Improvements Project Under the San Joaquin River Restoration Program, Merced County, California

AGENCY: Bureau of Reclamation, Interior.

ACTION: Notice of intent to prepare an Environmental Impact Statement/Environmental Impact Report (EIS/EIR) and Notice of Scoping Meetings.

SUMMARY: The Bureau of Reclamation and the California Department of Water Resources (DWR) are proposing to prepare a joint EIS/EIR, pursuant to the National Environmental Policy Act (NEPA) and the California Environmental Quality Act (CEQA), to evaluate effects of the proposed Reach 4B, Eastside Bypass and Mariposa Bypass Low Flow Channel and Structural Improvements Project (Proposed Action) under the San Joaquin River Restoration Program (SJRRP or Program). The Proposed Action includes the construction, operation, and maintenance of a low flow channel in Reach 4B of the San Joaquin River and in the Eastside and Mariposa bypasses and improvements to facilities in the Eastside and Mariposa bypasses to allow for fish passage. The purpose of the Proposed Action is to comply with the San Joaquin River Settlement by improving conveyance capacity in Reach 4B of the San Joaquin River to ensure conveyance of at least 475 cubic feet per second (cfs), modifying the Eastside and Mariposa bypass channels to establish a low flow channel, and modifying structures in the Eastside and Mariposa bypasses to provide for fish passage. The Proposed Action is a component of the San Joaquin River Settlement.

Scoping meetings will be held to solicit input on alternatives, concerns, and issues to be addressed in the EIS/EIR. Written comments may also be sent.

DATES: Two scoping meetings will be held to solicit comments from interested parties to assist in determining the scope of the environmental analysis, including the alternatives to be addressed, and to identify the significant environmental issues related to the Proposed Action.

• Wednesday, September 23, 2009, 6 to 8 p.m., Los Banos, California

• Thursday, September 24, 2009, 6 to 8 p.m., Merced, California

Written comments on the scope of the EIS/EIR should be sent by October 9, 2009.

ADDRESSES: The public hearings will be held at:

• Los Banos: Miller & Lux Building, 830 6th Street.

• Merced: Merced Fairgrounds Rock House Facility, 900 Martin Luther King Jr. Way.

Send written comments to Ms. Margaret Gidding, Bureau of Reclamation, 2800 Cottage Way, MP-170, Sacramento, CA 95825 or via e-mail at reach4b@restoresjr.net.

FOR FURTHER INFORMATION CONTACT: Ms. Margaret Gidding at the above address, by telephone at 916-978-5461, TDD 916-978-5608 or via fax at 916-978-5469. Additional information is available online at http://www.restoresjr.net. If special assistance is required at the scoping meetings, please contact Ms. Margaret Gidding at the above phone or fax numbers or via e-mail at mgidding@usbr.gov no less than ten working days prior to the meetings.

SUPPLEMENTARY INFORMATION: The Proposed Action includes improving conveyance capacity in Reach 4B of the San Joaquin River to ensure conveyance of at least 475 cfs, modifying the Eastside and Mariposa bypass channels to establish a low flow channel, and modifying structures in the Eastside and Mariposa bypasses to provide for fish passage. The following are the applicable Settlement Paragraphs related to the Proposed Action:

• Paragraph 11(a)(3) stipulates channel modifications to Reach 4B to ensure conveyance of at least 475 cfs.

• Paragraph 11(a)(4) stipulates modifications to the San Joaquin River headgates at the upstream end of Reach 4B to ensure fish passage and enable flow routing into Reach 4B.

• Paragraph 11(a)(5) stipulates modifications to the Sand Slough Control Structure to ensure fish passage.

• Paragraph 11(a)(8) stipulates modifications to structures in the Eastside and Mariposa bypass channels to provide anadromous fish passage on an interim basis until a final flow routing is selected and completed.

• Paragraph 11(a)(9) stipulates modifications in the Eastside and Mariposa bypass channels to establish a suitable low-flow channel, if the Secretary of the Interior in consultation with the Restoration Administrator, determines that such modifications are necessary to support anadromous fish migration through these channels.

Because the functions of these channels are interrelated, the design, environmental compliance, and construction are being addressed as one Proposed Action. The planning and environmental review for the Proposed Action is authorized under Section 3406(c)(1) of the Central Valley Project Improvement Act (CVPIA), (Pub. L. 102-575) and the San Joaquin River Restoration Act (SJRRA), included in Public Law 111-11. Construction of the Proposed Action is authorized under Section 10004 of the SJRRA (Pub. L. 111-11). The Proposed Action would be implemented consistent with both the Settlement and the SJRRA, Public Law 111-11.

San Joaquin River Restoration Program

In 1988, a coalition of environmental groups led by the Natural Resources Defense Council (NRDC) filed a lawsuit challenging the renewal of the long-term water service contracts between the United States and the Central Valley Project Friant Division Contractors. After more than 18 years of litigation known as NRDC, et al., v. Kirk Rodgers, et al., the NRDC, Friant Water Users Authority, and the Departments of the Interior and Commerce (Settling Parties) reached agreement on the terms and conditions of the San Joaquin River Settlement (Settlement) which was subsequently approved by the Court on October 23, 2006. The Settlement can be found online at http://www.restoresjr.net.

The Settlement is based on two parallel Goals:

• The Restoration Goal—To restore and maintain fish populations in “good condition” in the main stem of the San Joaquin River below Friant Dam to the confluence of the Merced River, including naturally reproducing and self-sustaining populations of salmon and other fish; and

• The Water Management Goal—To reduce or avoid adverse water supply impacts to all of the Friant Division long-term Contractors that may result from the Interim Flows and Restoration Flows provided for in the Settlement.

The Settling Parties acknowledge that accomplishing the Goals requires planning, implementation, and funding of certain activities, such as environmental review, design, and construction. With regard to the Restoration Goal, the Settlement calls for a combination of channel and structural improvements along the San Joaquin River below Friant Dam, releases of additional water from Friant Dam to the confluence of the Merced River, and the reintroduction of spring and/or fall-run Chinook salmon.

The Settlement states that the Secretary of the Interior shall implement the terms and conditions of the Settlement. Additionally, the Settling Parties agreed that implementation of the Settlement shall also require participation of the State of California. Therefore, concurrent with the execution of the Settlement, the Settling Parties entered into a Memorandum of Understanding with the State of California, by and through the California Resources Agency, DWR, the Department of Fish and Game (DFG), and the California Environmental Protection Agency (CalEPA), regarding the State's role in the implementation of the Settlement. The program established to implement the Settlement is the SJRRP, and the “Implementing Agencies” responsible for the management of the SJRRP include Reclamation, the U.S. Fish and Wildlife Service (USFWS), the National Marine Fisheries Service (NMFS), DWR, and DFG. The Federal Implementing agencies (Reclamation, USFWS and NMFS) are authorized to implement the Settlement under the SJRRA included in Public Law 111-11.

A Program Environmental Impact Statement/Environmental Impact Report (PEIS/EIR) is currently being developed for implementation of the SJRRP. If applicable, the EIS/EIR for the Proposed Action will supplement, tier from, incorporate by reference, or adopt relevant NEPA analyses from the PEIS/EIR. The Record of Decision for the PEIS/EIR is anticipated to be signed in 2010.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: July 13, 2009.
Mike Chotkowski,
Regional Environmental Officer, Mid-Pacific Region.

[FR Doc. E9-21717 Filed 9-8-09; 8:45 am]

BILLING CODE 4310-MN-P